DEPARTMENT OF COMMERCE

National Oceanic and Atmospheric Administration

RIN 0648-XA60

Marine Mammals; File No. 1070-1783-02

AGENCY: National Marine Fisheries Service (NMFS), National Oceanic and Atmospheric Administration (NOAA), Commerce.

ACTION: Notice; receipt of application for amendment.

SUMMARY: Notice is hereby given that Dr. Alejandro Acevedo-Gutierrez, Western Washington University, Bellingham, WA 98225, has requested an amendment to Permit No. 1070-1873-01 for research on marine mammals.

DATES: Written, telefaxed, or e-mail comments must be received on or before July 2, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Northwest Region, NMFS, 7600 Sand Point Way NE, BIN C15700, Bldg. 1, Seattle, WA 98115-0700; phone (206)526-6150; fax (206)526-6426.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1070-1783-02.

FOR FURTHER INFORMATION CONTACT: Jaclyn Daly or Tammy Adams, (301)713-2289.

SUPPLEMENTARY INFORMATION: The subject amendment to Permit No. 1070-1783-01, issued on September 5, 2006 (71 FR 53423), is requested under the authority of the Marine Mammal Protection Act of 1972, as amended (16 U.S.C. 1361 et seq.), and the regulations governing the taking and importing of marine mammals (50 CFR part 216).

Permit No. 1070-1783-01 authorizes the permit holder to study temporal and spatial variation in numbers and diet composition of harbor seals to determine responses of harbor seals (Phoca vitulina) to changes in prey density and the impact of seal behavior on marine protected areas. The permit holder requests authorization to increase the number of seals that may be harassed during research activities. This number would not exceed the current population estimate or the affected stock per year. The locations and research activities would remain the same.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 24, 2007.
P. Michael Payne,
Chief, Permits, Conservation and Education Division, Office of Protected Resources, National Marine Fisheries Service.

[FR Doc. E7-10586 Filed 5-31-07; 8:45 am]

BILLING CODE 3510-22-S